Title 3—

The President

Proclamation 7850 of December 1, 2004

World AIDS Day, 2004

By the President of the United States of America

A Proclamation

HIV/AIDS is the greatest health crisis of our time. Its defeat requires the cooperation of the entire global community. On World AIDS Day, people around the world unite to demonstrate our commitment to fighting HIV/AIDS and to offer prayers and support for those living with HIV/AIDS and for their families and caregivers.

America and many nations have great opportunities to improve health, expand prosperity, and extend freedom in our time. My Administration has made turning the tide against HIV/AIDS a priority. In my 2003 State of the Union Address, I was proud to announce the Emergency Plan for AIDS Relief. This plan commits $15 billion over 5 years to fight the HIV/AIDS pandemic in over 100 countries throughout the world, focusing on 15 of the hardest-hit countries in Africa, the Caribbean, and Asia. These funds are already at work and will help prevent 7 million new infections, treat 2 million infected individuals, and care for 10 million individuals, including orphans and vulnerable children infected or affected by this disease.

This year, we also recognize the challenges HIV/AIDS poses to women. Through the Emergency Plan, the United States supports drug therapy and counseling to prevent mother-to-child transmission of HIV/AIDS. In addition, we are working to prevent girls from becoming infected through sexual coercion or exploitation and to increase support and services to help reduce the burden on women who are called upon to care for a sick loved one.

In order to defeat this pandemic, we also must discover new treatments and cures. America joined with other countries at the G-8 Summit in June to announce the Global HIV Vaccine Enterprise, a major commitment from the world's leading scientists to find ways to combat this devastating disease. My Administration also supports efforts to encourage testing because in the United States alone, one-quarter of those infected with HIV each year do not know that they are infected. And, because abstinence is the only sure way to avoid sexually transmitted diseases, my Administration has more than tripled funding for abstinence-only programs since taking office.

Our country and other nations around the world are working to bring new hope to those suffering with HIV/AIDS and contribute to a healthier future for people around the world.

NOW, THEREFORE, I, GEORGE W. BUSH, President of the United States of America, by virtue of the authority vested in me by the Constitution and laws of the United States, do hereby proclaim December 1, 2004, as World AIDS Day. I urge the Governors of the States and the Commonwealth of Puerto Rico, officials of the other territories subject to the jurisdiction of the United States, and the American people to join me in remembering those who have lost their lives to this disease and to comfort and support those living with and affected by HIV/AIDS.

IN WITNESS WHEREOF, I have hereunto set my hand this first day of December, in the year of our Lord two thousand four, and of the Independence of the United States of America the two hundred and twenty-ninth.

B

[FR Doc. 04-26833

Filed 12-3-04; 8:45 am]

Billing code 3195-01-P